DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed Form EIA-902, “Annual Geothermal Heat Pump Manufacturers Survey.”

DATES: Comments must be filed by June 2, 2003. If you anticipate difficulty in submitting comments within that period, contact the person listed below as soon as possible.

ADDRESSES: Send comments to James Holihan. To ensure receipt of the comments by the due date, submission by FAX to (202) 287-1946 or e-mail to JHolihan@eia.doe.gov is recommended. The mailing address is Office of Coal, Nuclear, Electric, and Alternate Fuels, EI-52, Forrestal Building, U.S. Department of Energy, Washington, DC 20585-0650. Alternatively, Mr. Holihan may be contacted by telephone at (202) 287-1735.

FOR FURTHER INFORMATION CONTACT: Requests for additional information or copies of any forms and instructions should be directed to Mr. Holihan at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The Form EIA-902 collects information on shipments of geothermal heat pumps. The survey tracks shipments of the following three main types of geothermal heat pumps, as classified by the Air Conditioning & Refrigeration Institute (ARI), and the much smaller shipped volume of non-ARI rated systems. A brief description of the ARI-classified system is as follows:

ARI 320—Water-Source Heat Pumps (WSHP)—These systems are installed in commercial buildings, where a central chiller or boiler supplies chilled or heated water, respectively, to heat pumps installed in series. The heat pumps reject building heat to chilled water during the cooling season and, during the heating season, take heat from boiler water.

ARI 325—Ground Water-Source Heat Pumps (GWHP)—The GWHP is an open-Loop system in which ground water is drawn from an aquifer or other natural body of water into piping. At the heat pump, heat is drawn from or dumped to the water through a heat exchanger to the refrigerant in the heat pump. The heated or cooled water returns to its source.

ARI 330—Ground Source Closed-Loop Heat Pumps (GSHP)—A water or water/glycol (antifreeze) solution flows continuously through a closed loop of pipe buried underground. Ground heat is absorbed into or rejected from the solution flowing in the closed loop. At the heat pump, heat is drawn from or dumped to the closed loop solution via heat transfer through a heat exchanger, which passes heat to or removes heat from the refrigerant in the heat pump. Depending on the type of ground and land area, systems can either be installed horizontally or vertically.

Data are collected by model type, heat pump capacity, region of destination, customer type, and economic sector. Respondents are all U.S. geothermal heat pump manufacturers.

II. Current Actions

EIA will be requesting a three-year extension of Office of Management and Budget approval to continue using Form EIA-902 through 2003.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 4 hours per response. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, on March 26, 2003.
Jay H. Casselberry,
Agency Clearance Officer, Statistics and Methods Group, Energy Information Administration.

[FR Doc. 03-7924 Filed 4-1-03; 8:45 am]

BILLING CODE 6450-01-P